DEPARTMENT OF TRANSPORTATION

Surface Transportation Board

[STB Finance Docket No. 34804]

Central Washington Railroad Company and Columbia Basin Railroad Company, Inc.—Modified Rail Certificate

On December 20, 2005, Central Washington Railroad Company (CWA) and Columbia Basin Railroad Company, Inc. (CBRW), Class III rail carriers, filed a notice for a modified certificate of public convenience and necessity under 49 CFR part 1150, subpart C, Modified Certificate of Public Convenience and Necessity, to operate a rail line extending between milepost 0.0, near Toppenish, and milepost 20.56, near White Swan, in Yakima County, WA.

In 1992, a petition for exemption to abandon the line was granted in Washington Central Railroad Company, Inc.—Abandonment Exemption—In Yakima County, WA, Docket No. AB-326X (ICC served Aug. 24, 1992). The State of Washington acquired the line pursuant to an offer of financial assistance in Washington Central Railroad Company, Inc.—Abandonment Exemption—In Yakima County, WA, In the Matter of an Offer of Financial Assistance, Docket No. AB-326X (ICC served Mar. 18, 1993), and the rail property was subsequently transferred to Yakima County. In 1994, the prior operator of the line received a modified rail certificate in Yakima Valley Rail and Steam Museum Association, d/b/a Toppenish, Simcoe & Western Railroad—Modified Rail Certificate, Finance Docket No. 32487 (ICC served Apr. 28, 1994). CWA and CBRW indicate that Yakima County has advised CWA that the termination of the lease agreement between Yakima County and the prior operator would be effective on December 21, 2005.

CWA and CBRW state that CBRW, as lessee, and Yakima County, as owner, have executed a lease agreement governing the subject line. CWA, an affiliate of CBRW, has assumed CBRW's rights and obligations under the agreement, but CBRW retains lessee obligations under the agreement. The parties anticipate that CWA will be the operator over the line but, because CBRW retains lessee obligations under the agreement, CBRW is also seeking authority to operate over the rail line pursuant to a modified certificate. CWA and CBRW state that CWA anticipated commencing freight rail operations over the subject line on or after December 21, 2005. According to CWA and CBRW, the initial term of the agreement is for 4 years, which may be extended, upon the occurrence of certain conditions, for an additional 11 years; the agreement may be terminated earlier upon the occurrence of certain events described in the agreement.

CWA and CBRW state that the line's only interline connection is with BNSF Railway Company (BNSF) at BNSF milepost 73.6 at Toppenish, WA.

The rail segment qualifies for a modified certificate of public convenience and necessity. See Common Carrier Status of States, State Agencies and Instrumentalities and Political Subdivisions, Finance Docket No. 28990F (ICC served July 16, 1981).

CWA and CBRW indicate that: (1) There are no subsidizers; (2) there are no preconditions for shippers to meet to receive rail service; and (3) they have obtained liability insurance coverage.

This notice will be served on the Association of American Railroads (Car Service Division) as agent for all railroads subscribing to the car-service and car-hire agreement: Association of American Railroads, 50 F Street, NW., Washington, DC 20001; and on the American Short Line and Regional Railroad Association: American Short Line and Regional Railroad Association, 50 F Street, NW., Suite 7020, Washington, DC 20001.

Board decisions and notices are available on our Web site at http://www.stb.dot.gov.

Decided: December 23, 2005.
By the Board, David M. Konschnik, Director, Office of Proceedings.
Vernon A. Williams,
Secretary.

[FR Doc. 06-9 Filed 1-3-06; 8:45 am]

BILLING CODE 4915-01-P